COMMISSION ON CIVIL RIGHTS

Sunshine Act Meeting Notice

AGENCY: United States Commission on Civil Rights.

ACTION: Notice of Commission Telephonic Business Meeting.

DATES: Tuesday, September 26, 2017, at 1:00 p.m. EST.

ADDRESSES: Meeting to take place by telephone.

FOR FURTHER INFORMATION CONTACT: Brian Walch, (202) 376-8371, publicaffairs@usccr.gov.

SUPPLEMENTARY INFORMATION: This meeting is open to the public by telephone only.

Participant Access Instructions

Listen-only, Toll Free: 800-967-7140; Conference ID: 9813037. Please dial in 5-10 minutes prior to the start time.

Meeting Agenda

I. Approval of Agenda

II. Program Planning

• Discussion and Vote on Report: Public Education Funding Inequality in an Era of Increasing Concentration of Poverty and Resegregation

• Discussion and Vote on Timeline, Discovery Plan, and Outline for the Commission's Fiscal Year (FY) 2018 Report on School Discipline

• Discussion and Vote on Revised Timeline for the Commission's Fiscal Year (FY) 2018 Report on Voting Rights

III. Adjourn Meeting

Dated: September 19, 2017.
Brian Walch,
Director, Communications and Public Engagement.

[FR Doc. 2017-20366 Filed 9-20-17; 11:15 am]

BILLING CODE 6335-01-P